DEPARTMENT OF DEFENSE

Department of the Air Force

[Docket No. AFD 1485PCT]

Notice of Availability of Government-Owned Inventions; Foreign Patent Rights Available

AGENCY: Department of the Air Force, Department of Defense.

ACTION: Notice of availability.

SUMMARY: Pursuant to the Bayh-Dole Act and implementing regulations, the Department of the Air Force hereby gives notice of availability of foreign patent rights associated with International Patent Application No. PCT/US17/023215, published as WO 2017/0023215, entitled FAST BREAK NEEDLE FOR RAPID GUIDEWIRE-ASSISTED ACCESS.

ADDRESSES: Submit requests for information to the ORTA, 60th MDG, 101 Bodin Circle, Travis AFB, CA 94535; Facsimile: (228) 376-0128; or Mr. John Tupin, (707) 423-7206. Include Docket No. AFD 1485PCT in the subject line of the message.

FOR FURTHER INFORMATION CONTACT: ORTA, 60th MDG, 101 Bodin Circle, Travis AFB, CA 94535; Facsimile: (228) 376-0128; Mr. John Tupin, (707) 423-7206; or Air Force Materiel Command Law Office, AFMCLO/JAZ, 2240 B Street, Rm. 260, Wright-Patterson AFB, OH 45433-7109; Facsimile: (937) 255-3733; Email: afmclo.jaz.tech@us.af.mil.

SUPPLEMENTARY INFORMATION: The claimed vascular access disassembly needle assembly enables rapid insertion of a guidewire into the needle and subsequent rapid removal of the access needle off the guidewire by facile disassembly of the needle. The disassembling needle assembly includes a needle portion wherein the needle breaks apart by splitting along at least one seam that extends from the proximal to the distal end to allow removal of the guide wire. Various mechanical features are described that can facilitate the separation of the needle body along at least one seam. Once one or more seams are separated, the needle body may be removed from the guide wire without the need to withdraw the needle along the length of the guide wire, which permits preloading of expanders and other medical devices onto the guidewire.

Authority: 35 U.S.C. 209; 37 CFR 404.

Henry Williams,
Acting Air Force Federal Register Liaison Officer.

[FR Doc. 2018-21603 Filed 10-4-18; 8:45 am]

BILLING CODE 5001-10-P